DEPARTMENT OF LABOR

Employment and Training Administration

[TA-W-85,547]

Foxconn Assembly LLC/Foxconn Hon Hai Logistics LLC; A Subsidiary of Hon Hai Precision Industry Co., LTD Including Workers Whose Unemployment Insurance (UI) Wages Are Reported Under Foxconn Hon Hai Logistics Texas, LLC, EMS Assembly LLC and Q-Hub Corporation and Including On-Site Leased Workers From Spiretek International, Inc., Effex Management Solutions, LLC Houston, Texas; Amended Certification Regarding Eligibility To Apply for Worker Adjustment Assistance

In accordance with Section 223 of the Trade Act of 1974, as amended (“Act”), 19 U.S.C. 2273, the Department of Labor issued a Certification of Eligibility to Apply for Worker Adjustment Assistance on October 10, 2014, applicable to workers and former workers of Foxconn Assembly LLC/Foxconn Hon Hai Logistics LLC, a subsidiary of Hon Hai Precision Industry Co., LTD, including workers whose unemployment insurance (UI) wages are reported under Foxconn Hon Hai Logistics Texas, LLC and EMS Assembly LLC, and including on-site leased workers from Spiretek International, Inc. and Effex Management Solutions, LLC, Houston, Texas. The Department's Notice of Determination was published in the Federal Register on October 29, 2014 (79 FR 64413). The firm is engaged in production of printed circuit boards.

At the request of the State of Texas, the Department reviewed the certification applicable to the subject firm.

During the review, the Department confirmed that Foxconn Assembly LLC has operated under the name Q-Hub Corporation and paid workers in the group under this name.

The amended notice applicable to TA-W-85,547 is hereby issued as follows:

All workers of Foxconn Assembly LLC/Foxconn Hon Hai Logistics LLC, a subsidiary of Hon Hai Precision Industry Co., LTD, including workers whose unemployment insurance (UI) wages are reported under Foxconn Hon Hai Logistics Texas, LLC, EMS Assembly LLC and Q-Hub Corporation, and including on-site leased workers from Spiretek International, Inc. and Effex Management Solutions, LLC, Houston, Texas, who became totally or partially separated from employment on or after September 22, 2013 through October 10, 2016, and all workers in the group threatened with total or partial separation from employment on the date of certification through October 10, 2016, are eligible to apply for adjustment assistance under Chapter 2 of Title II of the Trade Act of 1974, as amended.

Signed in Washington, DC this 2nd day of February, 2015.
Michael W. Jaffe,
Certifying Officer, Office of Trade Adjustment Assistance.

[FR Doc. 2015-03279 Filed 2-17-15; 8:45 am]

BILLING CODE 4510-FN-P